DEPARTMENT OF ENERGY

Federal Energy Regulatory Commission

Combined Notice of Filings #3

Take notice that the Commission received the following electric rate filings:

Docket Numbers: ER22-1188-000.

Applicants: Guzman Energy, LLC.

Description: § 205(d) Rate Filing: Normal filing 2022 to be effective 3/4/2022.

Filed Date: 3/3/22.

Accession Number: 20220303-5147.

Comment Date: 5 p.m. ET 3/24/22.

Docket Numbers: ER22-1189-000.

Applicants: Guzman Energy Partners LLC.

Description: § 205(d) Rate Filing: Normal filing 2022 to be effective 3/4/2022.

Filed Date: 3/3/22.

Accession Number: 20220303-5150.

Comment Date: 5 p.m. ET 3/24/22.

Docket Numbers: ER22-1190-000.

Applicants: Guzman Western Slope LLC.

Description: § 205(d) Rate Filing: Normal filing 2022 to be effective 3/4/2022.

Filed Date: 3/3/22.

Accession Number: 20220303-5153.

Comment Date: 5 p.m. ET 3/24/22.

Docket Numbers: ER22-1191-000.

Applicants: Public Service Company of Colorado.

Description: § 205(d) Rate Filing: 2022-03-03 PSCo-HLYCRS-O&M Agrmt-430-0.2.0 to be effective 3/4/2022.

Filed Date: 3/3/22.

Accession Number: 20220303-5154.

Comment Date: 5 p.m. ET 3/24/22.

Docket Numbers: ER22-1192-000.

Applicants: Constellation Mystic Power, LLC.

Description: § 205(d) Rate Filing: Post-Spin Compliance Filing to Update Mystic Agreement to be effective 6/1/2022.

Filed Date: 3/3/22.

Accession Number: 20220303-5158.

Comment Date: 5 p.m. ET 3/24/22.

Docket Numbers: ER22-1193-000.

Applicants: Arizona Public Service Company.

Description: § 205(d) Rate Filing: Rate Schedule No. 306 to be effective 5/4/2022.

Filed Date: 3/4/22.

Accession Number: 20220304-5000.

Comment Date: 5 p.m. ET 3/25/22.

Docket Numbers: ER22-1194-000.

Applicants: Northern States Power Company, a Minnesota corporation.

Description: § 205(d) Rate Filing: 2022-03-04-NSP-GRE-SISA-North Mankato-674-0.0.0 to be effective 3/5/2022.

Filed Date: 3/4/22.

Accession Number: 20220304-5026.

Comment Date: 5 p.m. ET 3/25/22.

Docket Numbers: ER22-1195-000.

Applicants: American Electric Power Service Corporation, Appalachian Power Company, Indiana Michigan Power Company, Kentucky Power Company, Ohio Power Company, Wheeling Power Company, AEP Appalachian Transmission Company, Inc., AEP Indiana Michigan Transmission Company, Inc., AEP Kentucky Transmission Company, Inc., AEP Ohio Transmission Company, Inc., AEP West Virginia Transmission Company, Inc., PJM Interconnection, L.L.C.

Description: § 205(d) Rate Filing: American Electric Power Service Corporation submits tariff filing per 35.13(a)(2)(iii: AEP revisions to PJM OATT Atts. H-14 and H-20 re: AEP-Liberty Util. Transaction to be effective 12/31/9998.

Filed Date: 3/4/22.

Accession Number: 20220304-5077.

Comment Date: 5 p.m. ET 3/25/22.

Docket Numbers: ER22-1196-000.

Applicants: Kentucky Power Company, AEP Kentucky Transmission Company, Inc., PJM Interconnection, L.L.C.

Description: § 205(d) Rate Filing: Kentucky Power Company submits tariff filing per 35.13(a)(2)(iii: KY Power and AEP KY Transmission submit OATT Atts. H-35 & H-36 to be effective 12/31/9998.

Filed Date: 3/4/22.

Accession Number: 20220304-5085.

Comment Date: 5 p.m. ET 3/25/22.

Docket Numbers: ER22-1196-001.

Applicants: Kentucky Power Company, AEP Kentucky Transmission Company, Inc., PJM Interconnection, L.L.C.

Description: Tariff Amendment: Kentucky Power Company submits tariff filing per 35.17(b): Amendment to KY Power & AEP KY Transmission Atts. H-35 & H-36 to be effective 12/31/9998.

Filed Date: 3/4/22.

Accession Number: 20220304-5118.

Comment Date: 5 p.m. ET 3/25/22.

Docket Numbers: ER22-1197-000.

Applicants: Southern California Edison Company.

Description: § 205(d) Rate Filing: SCE Second Amended LGIA-Catalina Solar TOT455—SA No. 114 to be effective 3/5/2022.

Filed Date: 3/4/22.

Accession Number: 20220304-5099.

Comment Date: 5 p.m. ET 3/25/22.

Docket Numbers: ER22-1198-000.

Applicants: PJM Interconnection, L.L.C.

Description: § 205(d) Rate Filing: First Revised ISA No. 5448; Queue No. AF2-139 to be effective 2/2/2022.

Filed Date: 3/4/22.

Accession Number: 20220304-5112.

Comment Date: 5 p.m. ET 3/25/22.

Docket Numbers: ER22-1200-000.

Applicants: PJM Interconnection, L.L.C.

Description: § 205(d) Rate Filing: Revisions to OATT and OA to implement intelligent reserve deployment construct to be effective 6/1/2022.

Filed Date: 3/4/22.

Accession Number: 20220304-5134.

Comment Date: 5 p.m. ET 3/25/22.

Docket Numbers: ER22-1201-000.

Applicants: Niagara Mohawk Power Corporation, New York Independent System Operator, Inc.

Description: § 205(d) Rate Filing: Niagara Mohawk Power Corporation submits tariff filing per 35.13(a)(2)(iii: NMPC 205: Smart Path Connect Cost Recovery and Incentive Rate Treatment to be effective 5/4/2022.

Filed Date: 3/4/22.

Accession Number: 20220304-5146.

Comment Date: 5 p.m. ET 3/25/22.

Docket Numbers: ER22-1202-000.

Applicants: Pacific Gas and Electric Company.

Description: Tariff Amendment: Termination of Noosa Energy Storage E&P Agreement (SA 2100 EP-30) to be effective 5/4/2022.

Filed Date: 3/4/22.

Accession Number: 20220304-5177.

Comment Date: 5 p.m. ET 3/25/22.

Take notice that the Commission received the following public utility holding company filings:

Docket Numbers: PH22-7-000.

Applicants: CONSTELLATION ENERGY CORPORATION.

Description: Constellation Energy Corporation submits FERC-65A Notice of Change in Fact to Waiver Notification of.

Filed Date: 3/3/22.

Accession Number: 20220303-5225.

Comment Date: 5 p.m. ET 3/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: March 4, 2022.
Kimberly D. Bose,
Secretary.

[FR Doc. 2022-05054 Filed 3-9-22; 8:45 am]

BILLING CODE 6717-01-P